DEPARTMENT OF VETERANS AFFAIRS

Privacy Act of 1974; System of Records

AGENCY: Department of Veterans Affairs (VA).

ACTION: Notice of amendment to system of records.

SUMMARY: As required by the Privacy Act of 1974, 5 U.S.C. 552a(e), notice is hereby given that the Department of Veterans Affairs (VA) is amending the system of records entitled “The Revenue Program—Billing and Collections Records—VA” (114VA16) as set forth in the Federal Register 69 FR 4205 and as amended in 70 FR 55207. VA is amending the system of records by revising the Categories of Records in the System.

DATES: Comments on the amendment of this system of records must be received no later than January 11, 2010. If no public comment is received, the amended system will become effective January 11, 2010.

ADDRESSES: Written comments may be submitted through http://www.Regulations.gov; by mail or hand-delivery to Director, Regulations Management (02REG), Department of Veterans Affairs, 810 Vermont Avenue, NW., Room 1068, Washington, DC 20420; or by fax to (202) 273-9026. Comments received will be available for public inspection in the Office of Regulation Policy and Management, Room 1063B, between the hours of 8 a.m. and 4:30 p.m., Monday through Friday (except holidays). Please call (202) 461-4902 (this is not a toll-free number) for an appointment. In addition, during the comment period, comments may be viewed online through the Federal Docket Management System (FDMS) at: http://www.Regulations.gov.

FOR FURTHER INFORMATION CONTACT: Stephania H. Griffin, Veterans Health Administration (VHA) Privacy Officer, Department of Veterans Affairs, 810 Vermont Avenue, NW., Washington, DC 20420; telephone (704) 245-2492.

SUPPLEMENTARY INFORMATION: The Categories of Records in the System is being amended to add litigation or potential litigation, including a third-party tortfeasor, workers compensation, or no-fault automobile insurance cases.

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Approved: November 13, 2009.
John R. Gingrich,
Chief of Staff, Department of Veterans Affairs.

Notice of Amendment to System of Records

The system of records identified as 114VA16 “The Revenue Program—Billing and Collections Records—VA,” published at 67 FR 41573, June 18, 2002, and amended at 69 FR 4205, January 28, 2004, 70 FR 55207, September 20, 2005, and 73 FR 13280, March 12, 2008, is revised to amend the categories of records in the system as follows:

114VA16

SYSTEM NAME:

The Revenue Program—Billing and Collections Records—VA.

PURPOSE(S):

The records and information are used for the billing of, and collections from, a third party payer, including insurance companies, other Federal agencies, or foreign governments, for medical care or services received by a veteran for a nonservice-connected condition or from a first party veteran required to make co-payments. The records and information are also used for the billing of and collections from other Federal agencies for medical care or services received by an eligible beneficiary. The data may be used to identify or verify insurance coverage of a veteran or veteran's spouse prior to submitting claims for medical care or services. The data may be used to support appeals for non-reimbursement of claims for medical care or services provided to a veteran. The data may be used to enroll health care providers with health plans and VA's health care clearinghouse in order to electronically file third party claims. For the purposes of health care billing and payment activities to and from third party payers, VA will disclose information in accordance with the legislatively-mandated transaction standard and code sets promulgated by the United States Department of Health and Human Services (HHS) under the Health Insurance Portability and Accountability Act (HIPAA).

The data may be used to make application for a National Provider Identifier (NPI), as required by the HIPAA Administrative Simplification Rule on Standard Unique Health Identifier for Healthcare Providers, 45 CFR Part 162, for all health care professionals providing examination or treatment within VA health care facilities, including participation in pilot testing of NPI enumeration system by the Centers of Medicare and Medicaid Services (CMS). The records and information may be used for statistical analyses to produce various management, tracking and follow-up reports, to track and trend the reimbursement practices of insurance carriers, and to track billing and collection information. The data may be used to support, or in anticipation of supporting, reimbursement claims from non-VA health care providers or their agents. The data may be used to support, or in anticipation of supporting, reimbursement claims from academic affiliates with which VA maintains a business relationship.

CATEGORIES OF RECORDS IN THE SYSTEM:

* * * * *

7. Records of charges related to patient care that are created in anticipation of litigation in which the United States is a party or has an interest in the litigation or potential litigation, including a third-party tortfeasor, workers compensation, or no-fault automobile insurance cases. Such records are not subject to disclosure under 5 U.S.C. 552a(d)(5).

* * * * *

[FR Doc. E9-29375 Filed 12-9-09; 8:45 am]

BILLING CODE 8320-01-P